DEPARTMENT OF TRANSPORTATION

Federal Motor Carrier Safety Administration

[Docket No. FMCSA-2013-0029]

Qualification of Drivers; Exemption Applications; Vision

AGENCY: Federal Motor Carrier Safety Administration (FMCSA), DOT.

ACTION: Notice of applications for exemptions; request for comments.

SUMMARY: FMCSA announces receipt of applications from 69 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before July 8, 2013.

ADDRESSES: You may submit comments bearing the Federal Docket Management System (FDMS) Docket No. FMCSA-2013-0029 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 69 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Roger Bell

Mr. Bell, age 55, has had amblyopia in his right eye since childhood. The visual acuity in his right eye is 20/100, and in his left eye, 20/20. Following an examination in 2013, his optometrist noted, “Vision is stable and able to drive a commercial vehicle.” Mr. Bell reported that he has driven straight trucks for 29 years, accumulating 203,000 miles. He holds a Class B Commercial Driver's License (CDL) from Illinois. His driving record for the last 3 years shows no crashes and no convictions for moving violations in a CMV.

Kolby Blackner

Mr. Blackner, 31, has had amblyopia in his right eye since birth. The visual acuity in his right eye is 20/400, and in his left eye, 20/20. Following an examination in 2013, his optometrist noted, “In my opinion, Kolby has adequate vision to perform his driving tasks required to operate a commercial vehicle.” Mr. Blackner reported that he has driven straight trucks for 6 years, accumulating 37,440 miles, and tractor-trailer combinations for 13 years, accumulating 868,218. He holds a Class A CDL from Utah. His driving record for the last 3 years shows no crashes and no convictions for moving violations in a CMV.

Mark Bouchard

Mr. Bouchard, 59, has had a retinal detachment in his left eye since 1998. The visual acuity in his right eye is 20/20, and in his left eye, 20/150. Following an examination in 2012, his optometrist noted, “Mark has sufficient vision to perform the driving tasks required to operate a commercial vehicle.” Mr. Bouchard reported that he has driven straight trucks for 25 years, accumulating 687,500 miles. He holds a Class B CDL from Illinois. His driving record for the last 3 years shows no crashes and no convictions for moving violations in a CMV.

Michael Britt

Mr. Britt, 50, has had phthisis bulbi in his right eye since childhood. The visual acuity in his right eye is no light perception, and in his left eye, 20/20. Following an examination in 2013, his ophthalmologist noted, “In my medical opinion, the patient has sufficient vision to perform the driving task required to operate a commercial vehicle.” Mr. Britt reported that he has driven straight trucks for 31 years, accumulating 241,800 miles. He holds an operator's license from Maryland. His driving record for the last 3 years shows no crashes and no convictions for moving violations in a CMV.

Daryl Carpenter

Mr. Carpenter, 51, has had retinal scarring in his left eye since childhood. The visual acuity in his right eye is 20/20, and in his left eye, 20/400. Following an examination in 2012, his optometrist noted, “Patient has history of injury to left eye 40 years ago. This is a stable condition and Mr. Carpenter can continue driving commercial vehicles.” Mr. Carpenter reported that he has driven straight trucks for 28 years, accumulating 630,000 miles. He holds a Class BM CDL from Maryland. His driving record for the last 3 years shows no crashes and no convictions for moving violations in a CMV.

Michael Cassella

Mr. Cassella, 48, has had retinal stapholoma in his left eye since birth. The visual acuity in his right eye is 20/30, and in his left eye, 20/60. Following an examination in 2013, his ophthalmologist noted, “In my medical opinion, Mr. Michael Cassella has sufficient vision, color vision and peripheral vision to perform the driving tasks required to operate a commercial vehicle.” Mr. Cassella reported that he has driven straight trucks for 30 years, accumulating 450,000 miles, and tractor-trailer combinations for 30 years, accumulating 1.5 million miles. He holds a Class A CDL from New Jersey. His driving record for the last 3 years shows no crashes and no convictions for moving violations in a CMV.

Daniel G. Cohen

Mr. Cohen, 62, has had a complete loss of vision in his left eye since birth. The visual acuity in his right eye is 20/30, and in his left eye, no light perception. Following an examination in 2012, his ophthalmologist noted, “In my medical opinion, Mr. Cohen passes all the requirements as you have listed above. I assume these are the requirements that are needed to drive a commercial vehicle. If these requirements are indeed as such, then he does have sufficient vision to perform the driving tasks required to operate a commercial vehicle.” Mr. Cohen reported that he has driven tractor-trailer combinations for 3.5 years, accumulating 175,000 miles. He holds a Class A CDL from Vermont. His driving record for the last 3 years shows no crashes and no convictions for moving violations in a CMV.

Twila Cole

Ms. Cole, 45, has had refractive amblyopia in her left eye since childhood. The visual acuity in her right eye is 20/15, and in her left eye, 20/50. Following an examination in 2012, her optometrist noted, “In my medical opinion, Ms. Cole has sufficient enough vision to operate a commercial vehicle.” Ms. Cole reported that she has driven straight trucks for 15 years, accumulating 750,000 miles, and tractor-trailer combinations for 18 years, accumulating 450,000 miles. She holds a Class A CDL from Oregon. Her driving record for the last 3 years shows one crash, for which she was not cited, and one conviction for moving a violation in a CMV; she failed to obey a traffic signal.

Brian Cordell

Mr. Cordell, 45, has had optic nerve atrophy in his left eye since childhood due to a traumatic incident. The visual acuity in his right eye is 20/15, and in his left eye, 20/250. Following an examination in 2013, his ophthalmologist noted, “Based on this information, I continue to believe the patient can—and has demonstrated with his driving record—that his visual capacity is sufficient to perform the driving tasks required to operate a commercial vehicle.” Mr. Cordell reported that he has driven straight trucks for 2 years, accumulating 120,000 miles, and tractor-trailer combinations for 9 years, accumulating 1.1 million miles. He holds a Class A CDL from Texas. His driving record for the last 3 years shows no crashes and one conviction for a moving violation in a CMV; he exceeded the speed limit by 11 mph.

Aubrey R. Cordrey, Jr.

Mr. Cordrey, 54, has had amblyopia in his left eye since childhood. The visual acuity in his right eye is 20/20, and in his left eye, counting fingers. Following an examination in 2012, his optometrist noted, “I certify in my opinion, you have sufficient vision to perform driving tasks to operate a commercial vehicle.” Mr. Cordrey reported that he has driven straight trucks for 2 years, accumulating 4,000 miles, and buses for 33 years, accumulating 66,000 miles. He holds an operator's license from Delaware. His driving record for the last 3 years shows no crashes and no convictions for moving violations in a CMV.

Jimmie Crenshaw

Mr. Crenshaw, 46, has had exotropia in his right eye since childhood. The visual acuity in his right eye is no light perception, and in his left eye, 20/20. Following an examination in 2012, his optometrist noted, “In my opinion, Mr. Crenshaw's vision is adequate for commercial driving.” Mr. Crenshaw reported that he has driven straight trucks for 8 years, accumulating 96,000 miles, and tractor-trailer combinations for 15 years, accumulating 1.7 million miles. He holds a Class AM CDL from Alabama. His driving record for the last 3 years shows one crash, for which he was not cited, and no convictions for moving violations in a CMV.

Thomas W. Crouch

Mr. Crouch, 53, has had a macular hemorrhage in his right eye in 2009. The visual acuity in his right eye is counting fingers, and in his left eye, 20/25. Following an examination in 2013, his ophthalmologist noted, “At this time with such good vision in the left eye I do not see any reason why he should not be able to safely drive a commercial vehicle.” Mr. Crouch reported that he has driven straight trucks for 5 years, accumulating 262,500 miles, and tractor-trailer combinations for 28 years, accumulating 2.8 million miles. He holds a Class A CDL from Indiana. His driving record for the last 3 years shows no crashes and no convictions for moving violations in a CMV.

Alan E. Cutright

Mr. Cutright, 67, has had amblyopia in his left eye since birth. The visual acuity in his right eye is 20/20, and in his left eye, 20/200. Following an examination in 2013, his optometrist noted, “Mr. Cutright, in my opinion has sufficient vision to drive a commercial vehicle.” Mr. Cutright reported that he has driven straight trucks for 12 years, accumulating 249,600 miles. He holds an operator's license from Maryland. His driving record for the last 3 years shows no crashes and no convictions for moving violations in a CMV.

Jon K. Dale

Mr. Dale, 42, has had complete loss of vision in his right eye since birth. The visual acuity in his right eye is no light perception, and in his left eye, 20/25. Following an examination in 2012, his ophthalmologist noted, “Mr. Dale does have sufficient vision to perform the driving tasks required to operate a commercial vehicle.” Mr. Dale reported that he has driven straight trucks for 3 years, accumulating 84,000 miles. He holds an operator's license from Utah. His driving record for the last 3 years shows no crashes and no convictions for moving violations in a CMV.

Bert A. Damm

Mr. Damm, 53, has had refractive amblyopia in his left eye since birth. The visual acuity in his right eye is 20/20, and in his left eye, 20/400. Following an examination in 2013, his optometrist noted, “In my opinion, Bert Damm has sufficient vision to perform driving tasks required to operate a commercial vehicle.” Mr. Damm reported that he has driven straight trucks for 35 years, accumulating 19,250 miles, and tractor-trailer combinations for 35 years, accumulating 3 million miles. He holds a Class A CDL from Montana. His driving record for the last 3 years shows no crashes and no convictions for moving violations in a CMV.

Jeffrey Dauterman

Mr. Dauterman, 42, has had complete loss of vision in his right eye since 2012. The visual acuity in his right eye is light perception, and in his left eye, 20/20. Following an examination in 2013, his optometrist noted, “In my medical opinion, Mr. Dauterman does have sufficient vision to perform the driving tasks required to operate a commercial vehicle if his vision results are consistent with any and all requirements of the US Department of Transportation visual requirements and specifications.” Mr. Dauterman reported that he has driven straight trucks for 8 months, accumulating 2,000 miles, and tractor-trailer combinations for 13 years, accumulating 1.3 million miles. He holds a Class A CDL from Ohio. His driving record for the last 3 years shows no crashes and no convictions for moving violations in a CMV.

Brian Dowd

Mr. Dowd, 56, has had a prosthetic left eye since childhood due to a traumatic incident. The visual acuity in his right eye is 20/20, and in his left eye, no light perception. Following an examination in 2013, his optometrist noted, “Brian Dowd is capable and has sufficient vision to operate commercial vehicle in my professional medical opinion.” Mr. Dowd reported that he has driven straight trucks for 33 years, accumulating 237,600 miles. He holds a Class BM CDL from Massachusetts. His driving record for the last 3 years shows no crashes and no convictions for moving violations in a CMV.

Verlin L. Driskell

Mr. Driskell, 40, has had a retinal detachment in his left eye since 2009 due to a traumatic incident. The visual acuity in his right eye is 20/15, and in his left eye, light perception. Following an examination in 2013, his optometrist noted, “In my opinion, Mr. Driskell has sufficient vision to operate a commercial vehicle as he has the past 17 years, 3 years with current situation.” Mr. Driskell reported that he has driven straight trucks for 4 years, accumulating 400,000 miles, and tractor-trailer combinations for 15 years, accumulating 2 million miles. He holds a Class A CDL from Nebraska. His driving record for the last 3 years shows no crashes and no convictions for moving violations in a CMV.

Sonya Duff

Ms. Duff, 36, has had keratitis in her left eye since 2011. The visual acuity in her right eye is 20/20, and in her left eye, 20/80. Following an examination in 2012, her optometrist noted, “In my medical opinion, I do feel that Sonya Duff has sufficient vision to perform driving tasks required to operate a commercial vehicle.” Ms. Duff reported that she has driven straight trucks for 1 year, accumulating 125,000 miles, and tractor-trailer combinations for 16 years, accumulating 2 million miles. She holds a Class A CDL from Indiana. Her driving record for the last 3 years shows no crashes and no convictions for moving violations in a CMV.

Dennis C. Edler

Mr. Edler, 62, has had a traumatic globe rupture in his left eye since 1971. The visual acuity in his right eye is 20/20, and in his left eye, 20/400. Following an examination in 2012, his optometrist noted, “It is my medical opinion that he has sufficient vision to perform the driving tasks required to operate a commercial vehicle.” Mr. Edler reported that he has driven straight trucks for 41 years, accumulating 533,000 miles. He holds a Class BM CDL from Pennsylvania. His driving record for the last 3 years shows no crashes and no convictions for moving violations in a CMV.

Randy L. Fales

Mr. Fales, 40, has had chronic open angle glaucoma in his left eye since 2008. The visual acuity in his right eye is 20/20, and in his left eye, counting fingers. Following an examination in 2013, his ophthalmologist noted, “In my medical opinion your vision is sufficient to perform the driving tasks required of you to operate a commercial vehicle.” Mr. Fales reported that he has driven straight trucks for 19 years, accumulating 190,000 miles, and tractor-trailer combinations for 19 years, accumulating 475,000 miles. He holds an operator's license from Minnesota. His driving record for the last 3 years shows no crashes and no convictions for moving violations in a CMV.

Heidi S. Feldhaus

Ms. Feldhaus, 47, has had a prosthetic right eye since 1975. The visual acuity in her right eye is no light perception, and in her left eye, 20/20. Following an examination in 2012, her ophthalmologist noted, “It is my opinion that she has sufficient vision to perform tasks required for operating her commercial vehicle.” Ms. Feldhaus reported that she has driven straight trucks for 10 years, accumulating 500,000 miles. She holds a Class A CDL from South Dakota. Her driving record for the last 3 years shows no crashes and no convictions for moving violations in a CMV.

Robert Fox

Mr. Fox, 44, has had anisometropic amblyopia in his right eye since childhood. The visual acuity in his right eye is counting fingers, and in his left eye, 20/20. Following an examination in 2012, his ophthalmologist noted, “From his examination it is my medical opinion that he can perform driving tasks required in the operation of a commercial vehicle. He will require glasses to do this but can obtain an excellent visual acuity of 20/20 in the left eye.” Mr. Fox reported that he has driven straight trucks for 24 years, accumulating 48,000 miles. He holds a Class B CDL from New York. His driving record for the last 3 years shows no crashes and no convictions for moving violations in a CMV.

Steve Garrett

Mr. Garrett, 40, has had a retinal detachment in his left eye since 1992. The visual acuity in his right eye is 20/30, and in his left eye, light perception. Following an examination in 2013, his ophthalmologist noted, “Total visual field deficit left eye. Right eye no visual field deficit for 120 degrees horizontally. Color vision 16/16 both eyes. Pt [sic] has ability to recognize color traffic signals. In my medical opinion this gentleman has the capacity to operate a commercial vehicle.” Mr. Garrett reported that he has driven straight trucks for 5 years, accumulating 19,500 miles, and tractor-trailer combinations for 5 years, accumulating 450,000 miles. He holds a Class A CDL from California. His driving record for the last 3 years shows no crashes and no convictions for moving violations in a CMV.

Keith M. Gehrman

Mr. Gehrman, 52, has had complete loss of vision in his right eye since childhood. The visual acuity in his right eye is light perception, and in his left eye, 20/20. Following an examination in 2013, his optometrist noted, “Keith's vision is adequate to drive a commercial vehicle.” Mr. Gehrman reported that he has driven straight trucks for 34 years, accumulating 408,000 miles, and tractor-trailer combinations for 34 years, accumulating 170,000 miles. He holds a Class ABCD CDL from Wisconsin. His driving record for the last 3 years shows no crashes and no convictions for moving violations in a CMV.

Scott Gilroy

Mr. Gilroy, 41, has had refractive amblyopia in his right eye since birth. The visual acuity in his right eye is 20/400, and in his left eye, 20/20. Following an examination in 2012, his optometrist noted, “Mr. Gilroy demonstrates vision sufficient to perform the driving tasks required to operate a commercial vehicle.” Mr. Gilroy reported that he has driven straight trucks for 1 year, accumulating 15,000 miles, and tractor-trailer combinations for 17 years, accumulating 800,000 miles. He holds a Class A CDL from Ohio. His driving record for the last 3 years shows no crashes and no convictions for moving violations in a CMV.

Elbert D. Grant

Mr. Grant, 59, has had a macular retinal scar in his right eye since 1969. The visual acuity in his right eye is 20/150, and in his left eye, 20/20. Following an examination in 2013, his optometrist noted, “In my medical opinion Mr. Dale Grant has sufficient vision to perform the driving tasks [sic] required to operate a commercial vehicle.” Mr. Grant reported that he has driven straight trucks for 37 years, accumulating 1.9 million miles, and tractor-trailer combinations for 37 years, accumulating 1.9 million miles. He holds an operator's license from New Mexico. His driving record for the last 3 years shows no crashes and no convictions for moving violations in a CMV.

Henry M. Greer

Mr. Greer, 77, has had scarring in his left eye since childhood. The visual acuity in his right eye is 20/20, and in his left eye, light perception. Following an examination in 2013, his optometrist noted, “In my medical opinion, Mr. Greer has sufficient vision to continue to perform the driving tasks required to operate a commercial vehicle.” Mr. Greer reported that he has driven straight trucks for 46 years, accumulating 115,000 miles, and tractor-trailer combinations for 46 years, accumulating 335,800 miles. He holds a Class DMA CDL from Kentucky. His driving record for the last 3 years shows no crashes and no convictions for moving violations in a CMV.

Michael L. Grogg

Mr. Grogg, 49, has had ocular histoplasmosis syndrome in his left eye since 1989. The visual acuity in his right eye is 20/20, and in his left eye, counting fingers. Following an examination in 2013, his ophthalmologist noted, “The loss of central vision is due to presumed ocular histoplasmosis syndrome. This has been stable since 1989 and, given his intact color vision and intact visual fields, he would seem to have sufficient vision to operate a commercial vehicle.” Mr. Grogg reported that he has driven straight trucks for 10 years, accumulating 130,000 miles. He holds an operator's license from Virginia. His driving record for the last 3 years shows no crashes and no convictions for moving violations in a CMV.

Marc C. Grooms

Mr. Grooms, 43, has had amblyopia in his right eye since birth. The visual acuity in his right eye is 20/60, and in his left eye, 20/15. Following an examination in 2012, his optometrist noted, “To the best of my knowledge based on my ocular examination findings, I believe that Marc has the ability to safely operate a commercial vehicle.” Mr. Grooms reported that he has driven straight trucks for 21 years, accumulating 105,000 miles. He holds a Class A CDL from Missouri. His driving record for the last 3 years shows no crashes and no convictions for moving violations in a CMV.

Luc Guimond

Mr. Guimond, 55, has had toxoplasmosis in his right eye since childhood. The visual acuity in his right eye is 20/100, and in his left eye, 20/25. Following an examination in 2012, his ophthalmologist noted, “I certify that in my medical opinion, Mr. Luc Guimond has sufficient vision to perform the driving task required to operate a commercial vehicle.” Mr. Guimond reported that he has driven straight trucks for 3 months, accumulating 500 miles, and tractor-trailer combinations for 11 years, accumulating 1.1 million miles. He holds a Class A CDL from Washington. His driving record for the last 3 years shows no crashes and one conviction for moving violation in a CMV; he exceeded the speed limit by 12 mph.

Walter A. Hanselman

Mr. Hanselman, 59, has had refractive amblyopia in his right eye since childhood. The visual acuity in his right eye is 20/200, and in his left eye, 20/15. Following an examination in 2013, his optometrist noted, “In my professional opinion, Mr. Hanselman does have sufficient vision to perform the driving tasks that would be required to operate a commercial vehicle.” Mr. Hanselman reported that he has driven straight trucks for 1 year, accumulating 34,000 miles, and tractor-trailer combinations for 42 years, accumulating 4.2 million miles. He holds a Class A CDL from Indiana. His driving record for the last 3 years shows no crashes and no convictions for moving violations in a CMV.

Richard D. Holcomb

Mr. Holcomb, 30, has had exotropia in his right eye since birth. The visual acuity in his right eye is 20/200, and in his left eye, 20/20. Following an examination in 2012, his optometrist noted, “It is my professional opinion that Richard Holcomb can operate a commercial vehicle safely. I have examined his eyes since 1995 and his visual condition is stable.” Mr. Holcomb reported that he has driven straight trucks for 12 years, accumulating 378,000 miles. He holds an operator's license from Minnesota. His driving record for the last 3 years shows no crashes and no convictions for moving violations in a CMV.

Brian C. Holt

Mr. Holt, 30, has had amblyopia in his right eye since childhood. The visual acuity in his right eye is 20/150, and in his left eye, 20/30. Following an examination in 2012, his optometrist noted, “In my professional opinion, Mr. Holt has sufficient vision to perform the driving tasks required to operate a commercial vehicle.” Mr. Holt reported that he has driven straight trucks for 8 years, accumulating 24,000 miles. He holds a Class B CDL from Maine. His driving record for the last 3 years shows no crashes and no convictions for moving violations in a CMV.

Ronald E. Howard

Mr. Howard, 59, has had anisometropic amblyopia in his right eye since childhood. The visual acuity in his right eye is 20/300, and in his left eye, 20/20. Following an examination in 2013, his optometrist noted, “It is my medical opinion that Mr. Howard has the sufficient vision to perform the driving tasks required to operate a commercial vehicle.” Mr. Howard reported that he has driven straight trucks for 35 years, accumulating 87,500 miles, and tractor-trailer for 35 years, accumulating 437,500 miles. He holds a Class AM CDL from Pennsylvania. His driving record for the last 3 years shows no crashes and no convictions for moving violations in a CMV.

Berl C. Jennings

Mr. Jennings, 83, has had a retinal detachment in his right eye since 1994. The visual acuity in his right eye is light perception, and in his left eye, 20/20. Following an examination in 2013, his optometrist noted, “In my medical opinion, Mr. Berl Jennings demonstrated sufficient vision to perform driving tasks in which are required to operate a commercial vehicle.” Mr. Jennings reported that he has driven straight trucks for 40 years, accumulating 1.7 million miles, and tractor-trailer combinations for 20 years, accumulating 850,000 miles. He holds a Class AM CDL from Virginia. His driving record for the last 3 years shows no crashes and no convictions for moving violations in a CMV.

Michael Kelly

Mr. Kelly, 30, has had psuedophakia with nystagmus in his left eye since birth. The visual acuity in his right eye is 20/30, and in his left eye, 20/50. Following an examination in 2012, his optometrist noted, “In my professional medical opinion, Mr. Michael Kelly has sufficient vision to perform the driving tasks required to operate a commercial vehicle.” Mr. Kelly reported that he has driven straight trucks for 4.5 years, accumulating 225,000 miles, and tractor-trailer combinations for 6.5 years, accumulating 975,000 miles. He holds a Class A CDL from Texas. His driving record for the last 3 years shows no crashes and no convictions for moving violations in a CMV.

Aaron D. Kerr

Mr. Kerr, 30, has had amblyopia in his left eye since childhood. The visual acuity in his right eye is 20/20, and in his left eye, 20/300. Following an examination in 2012, his optometrist noted, “It is my impression that Mr. Kerr has sufficient vision in order to operate a commercial vehicle.” Mr. Kerr reported that he has driven straight trucks for 8 years, accumulating 144,000 miles, and tractor-trailer combinations for 4 years, accumulating 24,000 miles. He holds a Class A CDL from Maine. His driving record for the last 3 years shows no crashes and no convictions for moving violations in a CMV.

Craig Mahaffey

Mr. Mahaffey, 39, has had a prosthetic right eye since childhood. The visual acuity in his right eye is no light perception, and in his left eye, 20/20. Following an examination in 2013, his optometrist noted, “In my medical opinion, his visual acuity in the left eye is normal and sufficient to perform the driving tasks required to operate a commercial vehicle.” Mr. Mahaffey reported that he has driven straight trucks for 14 years, accumulating 140,000 miles, and tractor-trailer combinations for 16 years, accumulating 96,000 miles. He holds a Class A CDL from Ohio. His driving record for the last 3 years shows no crashes and no convictions for moving violations in a CMV.

Stanley Marshall

Mr. Marshall, 44, has had a prosthetic left eye since 2009. The visual acuity in his right eye is 20/20, and in his left eye, no light perception. Following an examination in 2012, his optometrist noted, “Mr. Marshall has a field of vision equal to 160 degrees of horizontal peripheral vision based on the Humphreys FDT visual field testing. And with slight head turn he is capable of very adequate field of view to interact with his environment. I, Dr. Stephen Summerow, O.D., certify that it is my medical opinion that Mr. Marshall is able to successfully operate a commercial vehicle and perform all driving task [sic].” Mr. Marshall reported that he has driven straight trucks for 19 years, accumulating 2 million miles, and tractor-trailer combinations for 19 years, accumulating 89,984 miles. He holds a Class A CDL from Georgia. His driving record for the last 3 years shows no crashes and no convictions for moving violations in a CMV.

Michael Martin

Mr. Martin, 37, has had strabismic amblyopia in his right eye since childhood. The visual acuity in his right eye is hand motion, and in his left eye, 20/15. Following an examination in 2012, his optometrist noted, “Mr. Martin meets the monocular driving requirements for a commercial vehicle based on visual acuity, visual field, and color vision testing.” Mr. Martin reported that he has driven straight trucks for 5 years, accumulating 50,000 miles. He holds an operator's license from Ohio. His driving record for the last 3 years shows no crashes and no convictions for moving violations in a CMV.

Michael McGee

Mr. McGee, 66, has had a hypoplastic optic nerve in his right eye since childhood. The visual acuity in his right eye is 20/150, and in his left eye, 20/20. Following an examination in 2012, his optometrist noted, “He has sufficient visual performance to operate a commercial vehicle.” Mr. McGee reported that he has driven straight trucks for 10 years, accumulating 500,000 miles, and tractor-trailer combinations for 15 years, accumulating 1.2 million miles. He holds a Class A CDL from California. His driving record for the last 3 years shows no crashes and no convictions for moving violations in a CMV.

Ignar L. Meyer

Mr. Meyer, 58, has had amblyopia in his right eye since childhood. The visual acuity in his right eye is 20/70, and in his left eye, 20/20. Following an examination in 2013, his optometrist noted, “Mr. Meyer has sufficient vision to perform the driving tasks required to operate a commercial vehicle.” Mr. Meyer reported that he has driven straight trucks for 7 years, accumulating 112,000 miles. He holds a Class A CDL from Washington. His driving record for the last 3 years shows one crash, for which he was not cited, and no convictions for moving violations in a CMV.

James W. Mize, Sr.

Mr. Mize, 64, has had refractive amblyopia in his left eye since birth. The visual acuity in his right eye is 20/25, and in his left eye, 20/70. Following an examination in 2013, his ophthalmologist noted, “His vision appears to me to be sufficient to allow him to perform commercial driving for which he is certified.” Mr. Mize reported that he has driven straight trucks for 2 years, accumulating 150,000 miles, and tractor-trailer combinations for 10 years, accumulating 1 million miles. He holds a Class AM CDL from Tennessee. His driving record for the last 3 years shows no crashes and no convictions for moving violations in a CMV.

Roy L. Morgan

Mr. Morgan, 55, has had refractive amblyopia in his left eye since childhood. The visual acuity in his right eye is 20/25, and in his left eye, 20/300. Following an examination in 2012, his optometrist noted, “He was a gentleman who presented to the clinic for a vision assessment to obtain commercial vehicle driving privileges . . . There are no indications based on his visual field or visual acuity today that would impair his ability to perform his job.” Mr. Morgan reported that he has driven straight trucks for 12 years, accumulating 217,200 miles. He holds an operator's license from Illinois. His driving record for the last 3 years shows no crashes and no convictions for moving violations in a CMV.

Rick Nickell

Mr. Nickell, 58, has had esotropia in his right eye since childhood. The visual acuity in his right eye is 20/50, and in his left eye, 20/20. Following an examination in 2013, his optometrist noted, “In my opinion, Mr. Nickell has sufficient visual acuity and field of vision to perform driving tasks required to operate a commercial vehicle.” Mr. Nickell reported that he has driven straight trucks for 32 years, accumulating 320,000 miles, and tractor-trailer combinations for 20 years, accumulating 10,000 miles. He holds a Class A CDL from Ohio. His driving record for the last 3 years shows no crashes and no convictions for moving violations in a CMV.

Richard E. Perry

Mr. Perry, 58, has had a retinal detachment in his left eye since childhood. The visual acuity in his right eye is 20/20, and in his left eye, hand motion. Following an examination in 2012, his ophthalmologist noted, “In my medical opinion, the patient has sufficient vision to perform the driving tasks required to operate a commercial vehicle.” Mr. Perry reported that he has driven tractor-trailer combinations for 35 years, accumulating 3.5 million miles. He holds a Class A CDL from California. His driving record for the last 3 years shows no crashes and two convictions for moving violations in a CMV; he exceeded the speed limit by 11 mph, and again by 9 mph.

Freddy H. Pete

Mr. Pete, 55, has had a prosthetic right eye since childhood. The visual acuity in his right eye is no light perception, and in his left eye, 20/20. Following an examination in 2013, his optometrist noted, “I believe that Mr. Pete has sufficient vision and skills to perform the driving tasks required to safely operate a commercial vehicle while utilizing additional side mirrors.” Mr. Pete reported that he has driven straight trucks for 14 years, accumulating 700,000 miles, and tractor-trailer combinations for 1 year, accumulating 500 miles. He holds a Class A CDL from Nevada. His driving record for the last 3 years shows no crashes and no convictions for moving violations in a CMV.

Ricky Reeder

Mr. Reeder, 51, has had complete loss of vision in his left eye since 1980. The visual acuity in his right eye is 20/20, and in his left eye, 20/400. Following an examination in 2012, his optometrist noted, “Mr. Reeder has sufficient vision to perform the driving tasks required to operate a commercial vehicle.” Mr. Reeder reported that he has driven tractor-trailer combinations for 15 years, accumulating 1.7 million miles. He holds a Class A CDL from Tennessee. His driving record for the last 3 years shows no crashes and no convictions for moving violations in a CMV.

Louis A. Requena

Mr. Requena, 50, has had amblyopia in his right eye since childhood. The visual acuity in his right eye is 20/400, and in his left eye, 20/20. Following an examination in 2013, his optometrist noted, “Since this is a longstanding deficiency of the right eye in my opinion Mr. Requena is capable of maintaining his commercial driver's license.” Mr. Requena reported that he has driven straight trucks for 22 years, accumulating 264,000 miles. He holds a Class A CDL from New York. His driving record for the last 3 years shows no crashes and no convictions for moving violations in a CMV.

Berry A. Rodrigue, Jr.

Mr. Rodrigue, 49, has had a retinal tear in his left eye since birth. The visual acuity in his right eye is 20/25, and in his left eye, hand motion. Following an examination in 2013, his optometrist noted, “20/25 overall vision is a sufficient visual acuity for a commercial vehicle driver's license.” Mr. Rodrigue reported that he has driven straight trucks for 32 years, accumulating 1.9 million miles, and tractor-trailer combinations for 32 years, accumulating 1.9 million miles. He holds a Class A CDL from Louisiana. His driving record for the last 3 years shows no crashes and no convictions for moving violations in a CMV.

Stephen R. Sargent

Mr. Sargent, 69, has had amblyopia in his left eye since birth. The visual acuity in his right eye is 20/20, and in his left eye, 20/60. Following an examination in 2012, his optometrist noted, “In my medical opinion, Mr. Sargent has sufficient vision to perform the driving tasks required to operate a commercial vehicle.” Mr. Sargent reported that he has driven straight trucks for 2 years, accumulating 116,000 miles, and buses for 10 years, accumulating 70,000 miles. He holds a Class B CDL from Maine. His driving record for the last 3 years shows no crashes and no convictions for moving violations in a CMV.

Leonard Sheehan

Mr. Sheehan, 51, has had amblyopia in his left eye since childhood. The visual acuity in his right eye is 20/20, and in his left eye, 20/50. Following an examination in 2013, his optometrist noted, “It is my impression Mr. Sheehan has sufficient visual skills to perform the driving tasks of a commercial vehicle.” Mr. Sheehan reported that he has driven straight trucks for 31 years, accumulating 434,000 miles, and tractor-trailer combinations for 10 years, accumulating 50,000 miles. He holds an operator's license from Wisconsin. His driving record for the last 3 years shows no crashes and no convictions for moving violations in a CMV.

Michael L. Sherum

Mr. Sherum, 52, has had angle recession glaucoma in his left eye since 1988. The visual acuity in his right eye is 20/20, and in his left eye, 20/400. Following an examination in 2013, his ophthalmologist noted, “Given the fact that he has lived with this deficit for many years and adapted well and continued to drive safely it is my medical opinion that he has sufficient vision to perform driving tasks required to operate a commercial vehicle.” Mr. Sherum reported that he has driven straight trucks for 12 years, accumulating 748,800 miles, and tractor-trailer combinations for 17 years, accumulating 2 million miles. He holds a Class AM CDL from Alabama. His driving record for the last 3 years shows no crashes and no convictions for moving violations in a CMV.

Manjinder Singh

Mr. Singh, 28, has had central serous retinopathy in his right eye since 2003. The visual acuity in his right eye is 20/70, and in his left eye, 20/20. Following an examination in 2013, his ophthalmologist noted, “His visual deficiency is stable with no changes since 2003 . . . In my opinion Mr. Singh is able to perform driving tasks to operate a commercial vehicle.” Mr. Singh reported that he has driven straight trucks for 2 years, accumulating 26,000 miles. He holds a Class A CDL from Washington. His driving record for the last 3 years shows no crashes and no convictions for moving violations in a CMV.

Wayne Stein

Mr. Stein, 57, has had amblyopia in his left eye since childhood. The visual acuity in his right eye is 20/25, and in his left eye, 20/200. Following an examination in 2013, his optometrist noted, “Mr. Stein has the ability to perform driving tasks required to operate a commercial vehicle with corrected vision.” Mr. Stein reported that he has driven straight trucks for 20 years, accumulating 152,000 miles. He holds an operator's license from Florida. His driving record for the last 3 years shows no crashes and no convictions for moving violations in a CMV.

Eddie B. Strange, Jr.

Mr. Strange, 36, has had a macular hole in his right eye since 1997 due to a traumatic incident. The visual acuity in his right eye is 20/100, and in his left eye, 20/20. Following an examination in 2013, his optometrist noted, “His visual deficiency is stable at this time. He is able to drive a commercial motor vehicle.” Mr. Strange reported that he has driven straight trucks for 3 years, accumulating 120,000 miles, and tractor-trailer combinations for 6 years, accumulating 300,000 miles. He holds a Class A CDL from Georgia. His driving record for the last 3 years shows no crashes and no convictions for moving violations in a CMV.

Michael J. Thane

Mr. Thane, 47, has had refractive amblyopia in his right eye since childhood. The visual acuity in his right eye is 20/200, and in his left eye, 20/20. Following an examination in 2013, his optometrist noted, “Mr. Thane has sufficient vision to operate a commercial vehicle.” Mr. Thane reported that he has driven straight trucks for 10 years, accumulating 2.5 million miles, and tractor-trailer combinations for 5 years, accumulating 1.5 million miles. He holds a Class A CDL from Ohio. His driving record for the last 3 years shows no crashes and one conviction for a moving violation in a CMV; he failed to obey a traffic control sign.

Larry A. Tidwell

Mr. Tidwell, 61, has had a prosthetic right eye since 1975. The visual acuity in his right eye is no light perception, and in his left eye, 20/20. Following an examination in 2013, his optometrist noted, “I feel that Mr. Tidwell has sufficient vision to operate a commercial vehicle.” Mr. Tidwell reported that he has driven straight trucks for 22 years, accumulating 114,400 miles, tractor-trailer combinations for 22 years, accumulating 114,400 miles, and buses for 5 years, accumulating 36,000 miles. He holds a Class A CDL for Missouri. His driving record for the last 3 years shows no crashes and no convictions for moving violations in a CMV.

Dale Torkelson

Mr. Torkelson, 59, has had a prosthetic right eye since 2009 due to a traumatic incident. The visual acuity in his right eye is no light perception, and in his left eye, 20/20. Following an examination in 2012, his ophthalmologist noted, “my medical opinion for his vision and if it is safe enough to operate a commercial vehicle—I believe he is absolutely safe to drive across state lines.” Mr. Torkelson reported that he has driven straight trucks for 19 years, accumulating 304,000 miles, tractor-trailer combinations for 16 years, accumulating 1.6 million miles, and buses for 12 years, accumulating 60,000 miles. He holds a Class ABCDM CDL from Wisconsin. His driving record for the last 3 years shows one crash, for which he was not cited, and no convictions for moving violations in a CMV.

Norman Vanderzyl

Mr. Vanderzyl, 72, has had complete loss of vision in his right eye since 1946. The visual acuity in his right eye is no light perception, and in his left eye, 20/25. Following an examination in 2012, his ophthalmologist noted, “In addressing his questions for his medical DOT requirements, he has had injury to his right eye with barbwire, a traumatic issue a long time ago, 1946. He has no useful vision in that eye. Fortunately, his left eye is doing very well with full vision . . . With proper mirrors, he should be adequate to drive.” Mr. Vanderzyl reported that he has driven straight trucks for 50 years, accumulating 1.3 million miles. He holds a Class A CDL from Iowa. His driving record for the last 3 years shows no crashes and no convictions for moving violations in a CMV.

John Vanek

Mr. Vanek, 70, has had anterior ischemic optic neuropathy in his right eye since 2004. The visual acuity in his right eye is counting fingers, and in his left eye, 20/20. Following an examination in 2012, his ophthalmologist noted, “His visual acuity was count fingers in the right eye and 20/20 in the left with 120 degree visual field of vision [sic]. He is able to identify red, green, and amber colors and very capable of driving and operating a commercial vehicle.” Mr. Vanek reported that he has driven straight trucks for 49 years, accumulating 2 million miles, and tractor-trailer combinations for 49 years, accumulating 3 million miles. He holds a Class A CDL from Missouri. His driving record for the last 3 years shows no crashes and no convictions for moving violations in a CMV.

James D. Vorderbruggen

Mr. Vorderbruggen, age 49, has had ocular histoplasmosis syndrome in his left eye since 1995. The visual acuity in his right eye is 20/20, and in his left eye, 10/600. Following an examination in 2012, his optometrist indicated that he does not have any visual defects or field loss that would affect the safe operation of a commercial motor vehicle. Mr. Vorderbruggen reported that he has driven straight trucks for 32 years, accumulating 640,000 miles. He holds an operator's license from Minnesota. His driving record for the last 3 years shows no crashes and no convictions for moving violations in a CMV.

Desmond Waldor

Mr. Waldor, 54, has had a corneal scar in his right eye since 2004. The visual acuity in his right eye is 20/200, and in his left eye, 20/20. Following an examination in 2013, his ophthalmologist noted, “He does have the ability to continue working a commercial vehicle given the excellent vision in his left eye, although his depth perception is somewhat limited.” Mr. Waldor reported that he has driven straight trucks for 38 years, accumulating 152,000 miles, and buses for 4 years, accumulating 54,000 miles. He holds an operator's license from Pennsylvania. His driving record for the last 3 years shows no crashes and no convictions for moving violations in a CMV.

Alicia M. Waters

Ms. Waters, 57, has had a macular scar in her right eye since 1992. The visual acuity in her right eye is 20/80, and in her left eye, 20/20. Following an examination in 2012, her optometrist noted, “It is my opinion that she has the visual ability to perform the driving tasks needed to operate a commercial motor vehicle.” Ms. Waters reported that she has driven straight trucks for 34 years, accumulating 68,000 miles, and tractor-trailer combinations for 9 years, accumulating 13,500 miles. She holds a Class A CDL from Illinois. Her driving record for the last 3 years shows no crashes and no convictions for moving violations in a CMV.

Norman R. Wilson

Mr. Wilson, 65, has had retinal scarring in his left eye since birth. The visual acuity in his right eye is 20/20, and in his left eye, hand motion. Following an examination in 2013, his optometrist noted, “In my medical opinion, you have sufficient binocular vision to perform the driving tasks required to operate a commercial vehicle.” Mr. Wilson reported that he has driven straight trucks for 37 years, accumulating 740,000 miles, and tractor-trailer combinations for 15 years, accumulating 600,000 miles. He holds a Class A CDL from Washington. His driving record for the last 3 years shows no crashes and no convictions for moving violations in a CMV.

James G. Witt

Mr. Witt, 62, has had amblyopia in his right eye since childhood. The visual acuity in his right eye is 20/200, and in his left eye, 20/20. Following an examination in 2013, his optometrist noted, “He has some problems keeping fixation on the fields with his amblyopic eye but I find no deficiencies that would make him unsafe provided he has dual outside rear view mirrors on any vehicle he operates.” Mr. Witt reported that he has driven straight trucks for 30 years, accumulating 600,000 miles, and tractor-trailer combinations for 3 years, accumulating 360,000 miles. He holds a Class A CDL from Arizona. His driving record for the last 3 years shows no crashes and no convictions for moving violations in a CMV.

James L. Young

Mr. Young, 66, has had exotropia and amblyopia in his right eye since birth. The visual acuity in his right eye is 20/50, and in his left eye, 20/20. Following an examination in 2013, his optometrist noted, “Mr. Young is applying for a CDL Disability waiver due to his not meeting the 20/40 vision requirement in his right eye . . . He has functioned all his life with this condition and has driven many years without incident. He is able to perform any driving requirements necessary for CDL licensure.” Mr. Young reported that he has driven straight trucks for 48 years, accumulating 480,000 miles, and tractor-trailer combinations for 48 years, accumulating 3.3 million miles. He holds a Class A CDL from Virginia. His driving record for the last 3 years shows no crashes and no convictions for moving violations in a CMV.

Sam D. Zachary

Mr. Zachary, age 57, has had amblyopia in his left eye since childhood. The visual acuity in his right eye is 20/25, and in his left eye, 20/80. Following an examination in 2013, his optometrist noted, “Mr. Zachary has sufficient vision to operate a commercial vehicle with his correction.” Mr. Zachary reported that he has driven tractor-trailer combinations for 36 years, accumulating 2.5 million miles. He holds a Class A CDL from North Carolina. His driving record for the last 3 years shows no crashes and one conviction for a moving violation in a CMV; he was driving too fast for the road conditions.

Request for Comments

In accordance with 49 U.S.C. 31136(e) and 31315, FMCSA requests public comment from all interested persons on the exemption petitions described in this notice. The Agency will consider all comments received before the close of business July 8, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: May 29, 2013.
Larry W. Minor,
Associate Administrator for Policy.

[FR Doc. 2013-13410 Filed 6-5-13; 8:45 am]

BILLING CODE 4910-EX-P